DEPARTMENT OF COMMERCE

National Oceanic and Atmospheric Administration

[I.D. 050304A]

Endangered Species; File No.1375

AGENCY: National Marine Fisheries Service (NMFS), National Oceanic and Atmospheric Administration (NOAA), Commerce.

ACTION: Issuance of permit amendment.

SUMMARY: Notice is hereby given that Dr. Thomas J. Kwak, U.S. Geological Survey has been issued a modification to scientific research Permit No. 1375.

ADDRESSES: The modification and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Jennifer Jefferies (301)713-2289.

SUPPLEMENTARY INFORMATION: On December 12, 2003, notice was published in the Federal Register (68 FR 69388) that an modification of Permit No. 1375, issued March 27, 2003 (68 FR 16002), had been requested by the above-named individual. The requested modification has been granted under the authority of the Endangered Species Act of 1973, as amended (ESA; 16 U.S.C. 1531 et seq.) and the regulations governing the taking, importing, and exporting of endangered and threatened species (50 CFR 222-226).

Permit No. 1375 authorized the permit holder to deploy 1,000 hatchery-reared juvenile shortnose sturgeon (Acipenser brevirostrum) in cages at 10 test sites within the Roanoke/Albemarle River system for 28 days. Afterwards the fish will be euthanized and their tissue analyzed for contaminants. The results of this study will provide needed information to determine if water quality is a factor limiting the ecological success of shortnose sturgeon in this river system. When the initial study was conducted, however, high water temperatures and low dissolved oxygen contributed to a shortened experiment time. With the issuance of this modification the permit holder will be authorized to obtain an additional 1000 fish to repeat the experiment in more favorable conditions. The modification will also extend the expiration date until December 31, 2005.

Issuance of this modification, as required by the ESA was based on a finding that such permit (1) was applied for in good faith, (2) will not operate to the disadvantage of the endangered species which is the subject of this permit, and (3) is consistent with the purposes and policies set forth in section 2 of the ESA.

Dated: December 8, 2004.
Stephen L. Leathery,
Chief, Permits, Conservation and Education Division, Office of Protected Resources, National Marine Fisheries Service.

[FR Doc. 04-27270 Filed 12-10-04; 8:45 am]

BILLING CODE 3510-22-S